FEDERAL COMMUNICATIONS COMMISSION

[Report No. 2793]

Petitions for Reconsideration of Action in Rulemaking Proceeding

September 20, 2006.

Petitions for Reconsideration has been filed in the Commission's Rulemaking proceeding listed in this Public Notice and published pursuant to 47 CFR 1.429(e). The full text of these documents is available for viewing and copying in Room CY-B402, 445 12th Street, SW., Washington, DC or may be purchased from the Commission's copy contractor, Best Copy and Printing, Inc. (BCPI) (1-800-378-3160). Oppositions to theses petition must be filed by October 12, 2006. See Section 1.4(b)(1) of the Commission's rules (47 CFR 1.4(b)(1)). Replies to an opposition must be filed within 10 days after the time for filing oppositions have expired.

Subject: In the Matter of Amendment of Section 73.202(b) Table of Allotment of FM Broadcast Stations (Eldorado, Mason, Mertzon and Fort Stockton, Texas) (MB Docket No. 02-167).

In the Matter of Amendment of Section 73.202(b) Table of Allotments of FM Broadcast Stations (Culebra and Vieques Puerto Rico) (MB Docket No. 04-318).

Number of Petitions Filed: 2.

Marlene H. Dortch,
Secretary.

[FR Doc. E6-15903 Filed 9-26-06; 8:45 am]

BILLING CODE 6712-01-P